DEPARTMENT OF TRANSPORTATION

Pipeline and Hazardous Materials Safety Administration

49 CFR Parts 191 and 195

[Docket No. PHMSA-2025-0109; Amdt. Nos. 191-36, 195-115]

RIN 2137-AF78

Pipeline Safety: Property Damage Definition for Incident Reporting on Gas Pipelines and Accidents on Hazardous Liquid Pipelines

AGENCY: Pipeline and Hazardous Materials Safety Administration (PHMSA), Department of Transportation (DOT).

ACTION: Direct final rule (DFR); request for comments.

SUMMARY: This DFR revises the property damage threshold for determining when a release from a gas or hazardous liquid pipeline facility meets the definition of a reportable incident or accident. This change clarifies that certain indirect impacts associated with investigating and repairing a release do not contribute to that threshold. This DFR also adopts an inflation adjusted property damage threshold for reporting hazardous liquid pipeline accidents identical to the one previously adopted for reporting gas pipeline incidents.

DATES: The DFR is effective October 9, 2025, unless adverse comments are received by September 2, 2025. If adverse comments are received, notification will be published in the Federal Register before the effective date either withdrawing the rule (in its entirety or portions thereof) or issuing a new final rule which responds to those comments.

ADDRESSES: You may submit comments identified by the Docket Number PHMSA-2025-0109 using any of the following methods:

E-Gov Web: https://www.regulations.gov. This site allows the public to enter comments on any Federal Register notice issued by any agency. Follow the online instructions for submitting comments.

Mail: Docket Management System: U.S. Department of Transportation, 1200 New Jersey Avenue SE, West Building, Ground Floor, Room W12-140, Washington, DC 20590-0001.

Hand Delivery: U.S. DOT Docket Management System: West Building, Ground Floor, Room W12-140, 1200 New Jersey Avenue SE, between 9 a.m. and 5 p.m., Monday through Friday, except Federal holidays.

Fax: 1-202-493-2251.

For commenting instructions and additional information about commenting, see SUPPLEMENTARY INFORMATION.

FOR FURTHER INFORMATION CONTACT: Sayler Palabrica, Transportation Specialist, 1200 New Jersey Avenue SE, Washington, DC 20590, 202-744-0825, sayler.palabrica@dot.gov.

SUPPLEMENTARY INFORMATION:

I. General Discussion

Through this DFR, PHMSA is clarifying the property damage thresholds that apply in determining whether a release is a reportable incident pursuant to 49 CFR 191.9 or 191.15 or reportable accident pursuant to 49 CFR 195.50(e). PHMSA is also adopting for hazardous liquid pipeline accident reporting under part 195 the inflation adjustment methodology that was previously adopted for reporting gas pipeline incidents in § 191.3 and appendix A to part 191.

Specifically, PHMSA is revising the definition of “incident” (at § 191.3) for gas pipelines and “accident” for hazardous liquid pipelines (at § 195.50(e)) to clarify that the costs associated with obtaining permits and removing or replacing infrastructure undamaged by an event (e.g., pavement needed for access and repair activity) do not need to be considered when calculating estimated property damage. This amendment responds to the National Association of Pipeline Safety Representatives Resolution 2021-01, “A Resolution Seeking a Modification of PHMSA's Instructions for Incident Reporting for Gas Distribution, Gas Transmission, and Gas Gathering Systems,” concerning how to classify overall secondary damage beyond the primary damage from a potential gas pipeline incident. Operators would still report these costs as incident consequences on the applicable incident and accident report forms; however, they should not be included in the calculation of property damage for determining whether a release is reportable as an incident or accident.

On May 18, 2023, PHMSA published a notice of proposed rulemaking (NPRM) that addressed, among other things, the change to the property damage criterion in part 191 being adopted in this direct final rule (88 FR 31890 (May 18, 2023)). PHMSA received approximately 43,000 public comments and nearly two weeks of advisory committee deliberation on that proceeding; however, this specific provision was subject to no controversy. While that proposal did not address hazardous liquid pipeline facilities, PHMSA anticipates that the change is even less consequential for hazardous liquid pipelines, which have a more stringent volumetric criterion for reporting accidents and are less likely to be located under pavement or other infrastructure compared with gas distribution lines.

Along with this change, PHMSA is adjusting the property damage threshold for reporting accidents on hazardous liquid pipelines in § 195.50(e) to account for inflation. The current $50,000 threshold has not been adjusted since 1994, and the regulation does not incorporate a mechanism for annual inflation adjustments going forward. PHMSA is adopting the same methodology previously applied to gas pipeline incident reporting in § 191.1 and Appendix A to part 191. In 2020, PHMSA proposed in separate proposed rulemakings to adjust the property damage criterion for reporting gas pipeline incidents (85 FR 35240 (Jun. 9, 2020)) and hazardous liquid pipeline accidents (85 FR 21140 (Apr. 4, 2020)) from $50,000 to account for inflation, to reduce reporting burdens from inconsequential releases, and to ensure that reporting requirements remain consistent going forward in real (i.e., inflation-adjusted) terms. In 2021, PHMSA issued a final rule incorporating a one-time catch-up for historical inflation and adopting a mechanism for making periodic inflationary adjustments to the property damage threshold in accordance with appendix A to part 191 (86 FR 2210 (Jan. 11, 2021)). Since then, PHMSA has published updates to the property damage criterion for reporting gas pipeline incidents on the agency web page each year. However, the parallel liquid pipeline regulatory reform proposed rule was not finalized, resulting in inconsistent reporting requirements across PHMSA's jurisdiction. This direct final rule corrects this discrepancy, resulting in the benefits described above and in preamble to the 2021 final rule, while also ensuring consistency across gas and hazardous liquid pipeline reporting requirements.

Consistent with the current property damage criterion posted on PHMSA's incident reporting web page at https://www.phmsa.dot.gov/incident-reporting, the property damage criterion for calendar year 2025 is $149,700. In future versions of the inflation adjustment memo, PHMSA will refer to both gas incidents and hazardous liquid accidents. Also consistent with gas requirements, PHMSA clarifies that the cost of lost product is not included in the property damage calculation for reporting hazardous liquid pipeline accidents. The volume of lost product is addressed separately in § 195.50(b) and the price of a given volume of crude oil, petroleum products, and other hazardous liquids and carbon dioxide can be highly variable.

Finally, this direct final rule updates the property damage threshold for gas pipeline reporting in § 191.3 to $149,700 consistent with the value currently posted on PHMSA's website for calendar year 2025. Since this reflects the current definition, this amendment is editorial and intended only to ensure consistency across gas and hazardous liquid pipeline incident and accident reporting.

Commenting

Instructions: Please include the docket number PHMSA-2025-0109 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 United States Code (U.S.C.) 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) 190.343, you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Sayler Palabrica, Office of Pipeline Safety, Pipeline and Hazardous Materials Safety Administration (PHMSA), 2nd Floor, 1200 New Jersey Avenue SE, Washington, DC 20590-0001, or by email at sayler.palabrica@dot.gov. Any materials PHMSA receives that is not specifically designated as CBI will be placed in the public docket.

Docket: For access to the docket to read background documents or comments received, go to http://www.regulations.gov. Follow the online instructions for accessing the docket. Alternatively, you may review the documents in person at the street address listed above.

II. Regulatory Analysis and Notices

A. Legal Authority

This direct final rule is published under the authority of the Secretary of Transportation set forth in the Federal Pipeline Safety Laws (49 U.S.C. 60101 et seq.) and delegated to the PHMSA Administrator pursuant to 49 CFR 1.97. Upon evaluation, and for the reasons explained above, PHMSA has determined that this direct final rule is unlikely to elicit adverse comment. See 49 U.S.C. 60102(b)(6)(A); 49 CFR 190.339.

B. Executive Order 12866; Regulatory Planning and Review

Executive Order (E.O.) 12866 (“Regulatory Planning and Review”; 58 FR 51735 (Oct. 4, 1993)), as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

E.O. 12866 and DOT Order 2100.6B also require that PHMSA submit “significant regulatory actions” to the Office of Information and Regulatory Affairs (OIRA) within the Executive Office of the President's Office of Management and Budget (OMB) for review. This direct final rule is a not significant regulatory action pursuant to E.O. 12866; it also has not designated this rule as a “major rule” as defined by the Congressional Review Act (5 U.S.C. 801 et seq.).

PHMSA has complied with the procedural and analytical requirements in E.O. 12866 as implemented by DOT Order 2100.6B. In so doing, PHMSA has determined that this direct final rule will result in cost savings by reducing unnecessary reporting burdens for incidents and accidents with relatively low actual consequences. PHMSA identified 57 hazardous liquid pipeline accidents reported between 2010 and 2024 involving total property damage between $50,000 and $149,700 that did not result in a fire, the release of five gallons or more, death, or injury. This averages to 3.5 incidents per year that would not require reporting to PHMSA under the final rule, resulting in cost savings for affected entities. According to OMB Control Number 2137-0047, the estimated burden for collecting this information is approximately 12 hours per response, including time for reviewing instructions, gathering data, and completing and reviewing the submission. Based on this estimate, PHMSA projects an annual reduction of 42 burden hours under the direct final rule. PHMSA expects those cost savings will also lead to reduced costs for the public, as pipeline operators typically pass a portion of their compliance costs on to consumers. Although PHMSA acknowledges a reduction in the number of reported accidents in the abstract could be said to reduce the quantity of information informing PHMSA regulatory oversight activity. However, PHMSA understands that impact would be de minimis as the accidents in question would (by definition) involve minimal public safety and property damage consequences; some of those events that were formerly reported as accidents may also remain subject to safety-related condition reporting pursuant to § 195.55. The cost savings of this rulemaking could not be quantified.

C. Executive Orders 14192 and 14219

This direct final rule will be a deregulatory action pursuant to E.O. 14192 (“Unleashing Prosperity Through Deregulation”; (90 FR 9065 (Feb. 6, 2025)). PHMSA estimates that the total costs of the rule on the regulated community will be less than zero. Nor does this rulemaking implicate any of the factors identified in section 2(a) of E.O. 14219 (“Ensuring Lawful Governance and Implementing the President's `Department of Government Efficiency' Deregulatory Initiative”) indicative that a regulation is “unlawful . . . [or] that undermine[s] the national interest.” (90 FR 10583 (Feb. 25, 2025).

D. Energy-Related Executive Orders 13211, 14154, and 14156

The President has declared in E.O. 14156 (“Declaring a National Energy Emergency”; (90 FR 8353 (Jan. 29, 2025)) a national emergency to address America's inadequate energy development production, transportation, refining, and generation capacity. Similarly, E.O. 14154 (“Unleashing American Energy,” (90 FR 8353 (Jan. 29, 2025)) asserts a Federal policy to unleash American energy by ensuing access to abundant supplies of reliable, affordable energy from (inter alia) the removal of “undue burden[s]” on the identification, development, or use of domestic energy resources such as PHMSA-jurisdictional gasses and hazardous liquids. PHMSA finds this direct final rule is consistent with each of E.O. 14156 and E.O. 14154. The direct final rule will give affected pipeline operators cost savings associated with preparing incident and accident reports. PHMSA therefore expects the regulatory amendments in this direct final rule will in turn increase national pipeline transportation capacity and improve pipeline operators' ability to provide abundant, reliable, affordable natural gas and petroleum products in response to residential, commercial, and industrial demand.

However, this direct final rule is not a “significant energy action” under E.O. 13211 (“Actions Concerning Regulations That Significantly Affect Energy Supply, Distribution, or Use”; (66 FR 28355 (May 22, 2001)), which requires Federal agencies to prepare a Statement of Energy Effects for any “significant energy action.” Because this direct final rule is not a significant action under E.O. 12866, it will not have a significant adverse effect on supply, distribution, or energy use; and OIRA has therefore not designated this direct final rule as a significant energy action.

E. Executive Order 13132: Federalism

PHMSA analyzed this direct final rule in accordance with the principles and criteria contained in E.O. 13132 (“Federalism”; 64 FR 43255 (Aug. 10, 1999)) and the Presidential Memorandum (“Preemption”) published in the Federal Register on May 22, 2009 (74 FR 24693). E.O. 13132 requires agencies to ensure meaningful and timely input by State and local officials in the development of regulatory policies that may have “substantial direct effects on the States, on the relationship between the National Government and the States, or on the distribution of power and responsibilities among the various levels of government.”

While the direct final rule may operate to preempt some State requirements, it will not impose any regulation that has substantial direct effects on the States, the relationship between the National Government and the States, or the distribution of power and responsibilities among the various levels of government. Section 60104(c) of Federal Pipeline Safety Laws prohibits certain State safety regulation of interstate pipelines. Under Federal Pipeline Safety Laws, States that have submitted a current certification under section 60105(a) can augment Federal pipeline safety requirements for intrastate pipelines regulated by PHMSA but may not approve safety requirements less stringent than those required by Federal law. A State may also regulate an intrastate pipeline facility that PHMSA does not regulate. The preemptive effect of the regulatory amendments in this direct final rule is limited to the minimum level necessary to achieve the objectives of the Federal Pipeline Safety Laws. Therefore, the consultation and funding requirements of E.O. 13132 do not apply.

F. Regulatory Flexibility Act

The Regulatory Flexibility Act (5 U.S.C. 601 et seq.) requires Federal agencies to conduct a Final Regulatory Flexibility Analysis (FRFA) for a direct final rule subject to notice-and-comment rulemaking under the Administrative Procedure Act unless the agency head certifies that the proposed rule in the rulemaking will not have a significant economic impact on a substantial number of small entities. E.O. 13272 (“Proper Consideration of Small Entities in Agency Rulemaking”; 67 FR 53461 (Aug. 16, 2002)) obliges agencies to establish procedures promoting compliance with the Regulatory Flexibility Act. DOT posts its implementing guidance on a dedicated web page. This direct final rule was developed in accordance with E.O. 13272 and DOT implementing guidance to ensure compliance with the Regulatory Flexibility Act. PHMSA expects that this direct final rule will relieve a regulatory burden and therefore certifies it will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed or direct final rule that includes a Federal mandate that may result in the expenditure by State, local, and Tribal governments, in the aggregate of $100 million or more (in 1996 dollars) in any given year, the agency must prepare, amongst other things, a written statement that qualitatively and quantitatively assesses the costs and benefits of the Federal mandate.

This direct final rule does not impose unfunded mandates under UMRA because it does not result in costs of $100 million or more (in 1996 dollars) per year for either State, local, or Tribal governments, or to the private sector.

H. National Environmental Policy Act

The National Environmental Policy Act (NEPA, 42 U.S.C. 4321 et. seq.) requires that Federal agencies assess and consider the impact of major Federal actions on the human and natural environment.

PHMSA analyzed this direct final rule in accordance with NEPA and issues this Finding of No Significant Impact (FONSI), as it has determined that the rulemaking will not adversely affect safety and therefore will not significantly affect the quality of the human and natural environment.

I. Executive Order 13175

PHMSA analyzed this direct final rule according to the principles and criteria in E.O. 13175 (“Consultation and Coordination with Indian Tribal Governments”; 65 FR 67249 (Nov. 9, 2000)) and DOT Order 5301.1A (“Department of Transportation Tribal Consultation Polices and Procedures”). E.O. 13175 requires agencies to assure meaningful and timely input from Tribal government representatives in the development of rules that significantly or uniquely affect Tribal communities by imposing “substantial direct compliance costs” or “substantial direct effects” on such communities or the relationship or distribution of power between the Federal Government and Tribes.

PHMSA assessed the impact of the direct final rule and determined that it will not significantly or uniquely affect Tribal communities or Indian Tribal governments. The rulemaking's regulatory amendments have a broad, national scope; therefore, this direct final rule will not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests.

PHMSA will submit an information collection revision request to OMB for approval based on the requirements in this proposed rule. The information collection is contained in the pipeline safety regulations, 49 CFR parts 190 through 199. The following information is provided for each information collection: (1) Title of the information collection; (2) OMB control number; (3) Current expiration date; (4) Type of request; (5) Abstract of the information collection activity; (6) Description of affected public; (7) Estimate of total annual reporting and recordkeeping burden; and (8) Frequency of collection. The information collection burdens for the following information collections are estimated to be revised as follows:

1. Title: Transportation of Hazardous Liquids by Pipeline: Record keeping and Accident Reporting.

OMB Control Number: 2137-0047.

Current Expiration Date: 04/30/2026.

Abstract: This information collection covers general recordkeeping and the collection of information from hazardous liquid pipeline operators for accident reports. PHMSA estimates that due to the revised monetary damage threshold for reporting accidents operators will submit 3 fewer hazardous liquid accident reports per year. Therefore, PHMSA expects to eliminate 3 responses and 36 hours to this information collection per year as a result of the provisions in the rule.

Affected Public: All hazardous liquid pipeline operators.

Annual Reporting and Recordkeeping Burden:

Total Annual Responses: 1,643 (1,646−3).

Total Annual Burden Hours: 53,741 (53,777−36).

Frequency of Collection: On Occasion.

K. Executive Order 13609 and International Trade Analysis

E.O. 13609 (“Promoting International Regulatory Cooperation”; 77 FR 26413 (May 4, 2012)) requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the direct final rule and has determined that its regulatory amendments will not cause unnecessary obstacles to foreign trade.

L. Cybersecurity and Executive Order 14028

E.O. 14028 (“Improving the Nation's Cybersecurity”; 86 FR 26633 (May 17, 2021)) directed the Federal Government to improve its efforts to identify, deter, and respond to “persistent and increasingly sophisticated malicious cyber campaigns.” PHMSA has considered the effects of the direct final rule and has determined that its regulatory amendments will not materially affect the cybersecurity risk profile for pipeline facilities.

List of Subjects

49 CFR Part 191

Natural gas, Pipeline safety, Reporting and recordkeeping requirements.

49 CFR Part 195

Pipeline safety, Reporting and recordkeeping requirements.

In consideration of the foregoing, PHMSA amends 49 CFR parts 191 and 195 as follows:

PART 191—TRANSPORTATION OF NATURAL AND OTHER GAS BY PIPELINE; ANNUAL, INCIDENT, AND OTHER REPORTING

1. The authority citation for part 191 continues to read as follows:

Authority: 30 U.S.C. 185(w)(3), 49 U.S.C. 5121, 60101 et seq., and 49 CFR 1.97.

2. In § 191.3, revise paragraph (1)(ii) in the definition of “Incident” to read as follows:

§ 191.3 Definitions.

* * * * *

Incident * * *

(1) * * *

(ii) Estimated property damage of $149,700 or more, including loss to the operator and others, or both, but excluding each of the cost of gas lost, the cost to acquire permits, and the cost to remove and replace non-operator infrastructure that was not damaged by the release. For adjustments for inflation observed in calendar year 2026 onwards, changes to the reporting threshold will be posted on PHMSA's website. These changes will be determined in accordance with the procedures in appendix A to part 191.

* * * * *

PART 195—TRANSPORTATION OF HAZARDOUS LIQUIDS BY PIPELINE

3. The authority citation for part 195 continues to read as follows:

Authority: 30 U.S.C. 185(w)(3), 49 U.S.C. 5121, 60101 et seq., and 49 CFR 1.97.

4. Revise § 195.50(e) to read as follows:

§ 195.50 Reporting Accidents.

* * * * *

(e) Estimated property damage, including cost of clean-up and recovery and damage to the property of the operator or others—but excluding each of the cost of lost product, the cost to acquire permits, and the cost to remove and replace non-operator infrastructure that was not damaged by the release—exceeding $149,700. For adjustments for inflation observed in calendar year 2026 onwards, changes to the reporting threshold will be posted on PHMSA's website. These changes will be determined in accordance with the procedures in appendix D to part 195.

5. In part 195, add appendix D to read as follows:

Appendix D to Part 195—Procedure for Determining Reporting Threshold

I. Property Damage Threshold Formula

Each year after calendar year 2025, the Administrator will publish a notice on PHMSA's website announcing the updates to the property damage threshold criterion that will take effect on July 1 of that year and will remain in effect until the June 30 of the next year. The property damage threshold used in determining the scope of accident reporting at § 195.50(d) shall be determined in accordance with the following formula:

Where:

Tr is the revised damage threshold,

Tp is the previous damage threshold,

CPIr is the average Consumer Price Indices for all Urban Consumers (CPI-U) published by the Bureau of Labor Statistics each month during the most recent complete calendar year, and

CPIp is the CPI-U used to establish the previous property damage criteria.

Issued in Washington, DC, on June 26, 2025, under the authority delegated in 49 CFR 1.97.
Benjamin D. Kochman,
Acting Administrator.

[FR Doc. 2025-12113 Filed 6-27-25; 4:15 pm]

BILLING CODE 4910-60-P